DEPARTMENT OF ENERGY

Federal Energy Regulatory Commission

Combined Notice of Filings #1

Take notice that the Commission received the following electric rate filings:

Docket Numbers: ER10-2602-005.

Applicants: NewPage Energy Services, LLC.

Description: NewPage Energy Services, LLC Market-Based Rate Tariff to be effective 7/8/2013.

Filed Date: 7/8/13.

Accession Number: 20130708-5124.

Comments Due: 5 p.m. ET 7/29/13.

Docket Numbers: ER10-2609-005; ER10-2604-003; ER10-2603-003; ER10-2602-006; ER10-2606-005.

Applicants: Escanaba Paper Company, Luke Paper Company, Rumford Paper Company, NewPage Energy Services, LLC, Consolidated Water Power Company.

Description: Notice of Change in Status of the NewPage MBR Companies.

Filed Date: 7/8/13.

Accession Number: 20130708-5161.

Comments Due: 5 p.m. ET 7/29/13.

Docket Numbers: ER10-2616-004; ER10-2618-002; ER10-2619-002; ER11-4398-001; ER11-4400-001; ER10-2617-002; ER10-2613-002; ER10-2585-002.

Applicants: Dynegy Marketing and Trade, LLC, Dynegy Danskammer, L.L.C., Dynegy Kendall Energy, LLC, Dynegy Power Marketing, LLC, Dynegy Midwest Generation, LLC, Ontelaunee Power Operating Company, LLC, Sithe/Independence Power Partners, L.P., Casco Bay Energy Company, LLC.

Description: Notice of Change in Status of Dynegy Inc. MBR subsidiaries.

Filed Date: 7/8/13.

Accession Number: 20130708-5166.

Comments Due: 5 p.m. ET 7/29/13.

Docket Numbers: ER12-360-004.

Applicants: New York Independent System Operator, Inc.

Description: NYISO further compliance filing—NCZ to be effective 9/1/2012.

Filed Date: 7/8/13.

Accession Number: 20130708-5125.

Comments Due: 5 p.m. ET 7/29/13.

Docket Numbers: ER13-1906-000.

Applicants: Guttman Energy Inc.

Description: Original Volume No. 1 to be effective 8/15/2013.

Filed Date: 7/8/13.

Accession Number: 20130708-5097.

Comments Due: 5 p.m. ET 7/29/13.

Docket Numbers: ER13-1907-000.

Applicants: Midcontinent Independent System Operator, Inc.

Description: 2013-07-08 SA 1756 METC-Consumers (G479B) to be effective 7/4/2013.

Filed Date: 7/8/13.

Accession Number: 20130708-5122.

Comments Due: 5 p.m. ET 7/29/13.

Docket Numbers: ER13-1908-000.

Applicants: Virginia Electric and Power Company, Dominion Energy Marketing, Inc., Dominion Nuclear Connecticut, Inc., Dominion Energy Kewaunee, Inc., Dominion Energy Brayton Point, LLC, Dominion Energy Manchester Street, Inc., Dominion Retail, Inc., Elwood Energy, LLC, Fairless Energy, LLC, Kincaid Generation, L.L.C., NedPower Mount Storm, LLC, Fowler Ridge Wind Farm LLC, Dominion Bridgeport Fuel Cell, LLC.

Description: Request for waiver of certain affiliate restrictions requirements of Virginia Electric and Power Company and its Market-Regulated Power Sales Affiliates.

Filed Date: 7/8/13.

Accession Number: 20130708-5160.

Comments Due: 5 p.m. ET 7/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2013.
Nathaniel J. Davis, Sr.,
Deputy Secretary.

[FR Doc. 2013-17009 Filed 7-15-13; 8:45 am]

BILLING CODE 6717-01-P